NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before September 1, 2006. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: requestschedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Agricultural Marketing Service (N1-136-05-5, 7 items, 7 temporary items). Inputs, outputs, master files, and documentation associated with an electronic information system used to track, disseminate information about, and bill for cotton samples submitted to the agency for quality classification. This schedule authorizes the agency to apply the proposed disposition instructions to any recordkeeping medium.

2. Department of Agriculture, Agricultural Marketing Service (N1-136-06-9, 6 items, 6 temporary items). Inputs, outputs, master files, and documentation associated with an electronic information system used to disseminate market information about livestock, fruits, and vegetables. Also included are electronic copies of documents created using electronic mail and word processing. This schedule authorizes the agency to apply the proposed disposition instructions to any recordkeeping medium.

3. Department of Agriculture, Agricultural Marketing Service (N1-136-06-12, 3 items, 3 temporary items). Master files and electronic mail and word processing copies of documents associated with an electronic information system used to disseminate market data on farm products for all commodity programs. This schedule authorizes the agency to apply the proposed disposition instructions to any recordkeeping medium.

4. Department of the Army, Agency-wide (N1-AU-05-4, 2 items, 2 temporary items). Records relating to property accountability, including property books, receipts, turn-in slips, report of survey, and inventory adjustments reports. Also included are electronic copies of records created using electronic mail and word processing. This schedule authorizes the agency to apply the proposed disposition instructions to any recordkeeping medium.

5. Department of the Army, Agency-wide (N1-AU-06-3, 2 items, 2 temporary items). Records documenting personnel attendance in initial and refresher chemical agents and munitions training. Also included are electronic copies of records created using electronic mail and word processing. This schedule authorizes the agency to apply the proposed disposition instructions to any recordkeeping medium.

6. Department of Defense, Defense Intelligence Agency (N1-373-05-02, 2 items, 1 temporary item). Records of the Office of Inspector General documenting requests for workforce assistance. Included are such records as reports, records of actions taken, and supporting documentation. Proposed for permanent retention are recordkeeping copies of files pertaining to oversight of intelligence operations.

7. Department of Defense, National Reconnaissance Office (N1-525-06-3, 2 items, 2 temporary items). Supervisors' personnel files including position descriptions, authorizations, and duplicate official personnel file documentation.

8. Department of Housing and Urban Development, Agency-wide (N1-207-06-3, 7 items, 7 temporary items). Financial management records relating to accounting activities, budget and finance, payments, collections and receivables, asset and liability management, reporting information, and documentation. Records result from financial events such as the receipt of appropriations or other financial resources, acquisition of goods or services, payments or collections, recognition of guarantees, benefits to be provided, and other reportable financial activities. This schedule authorizes the agency to apply the proposed disposition instructions to any recordkeeping medium.

9. Department of the Interior, Office of the Secretary (N1-48-06-5, 30 items, 29 temporary items). Records of the Chief Information Officer relating to the Metric Conversion Act of 1975, as well as electronic information technology accessibility files and quality of government information files. Included are such records as program directives, guidance, policy files, reports, and committee and training files. Also included are electronic copies of records created using electronic mail and word processing applications. Proposed for permanent retention are recordkeeping copies of the annual information quality report.

10. Department of the Interior, Office of the Secretary (N1-48-06-6, 7 items, 7 temporary items). Records of the Indirect Cost Services Office of the National Business Center including customer guidance files, negotiated agreement files, and agency Web versions of guidance on how to prepare and submit indirect cost proposals. Also included are electronic copies of records created using electronic mail and word processing applications.

11. Department of Justice, Criminal Division (N1-60-06-3, 4 items, 2 temporary items). General files of the Counterterrorism Section that lack historical value. Also included are electronic copies of records created using electronic and word processing. Proposed for permanent retention are recordkeeping copies of counterterrorism case files, executive orders and presidential proclamations, definitions and interpretations, and policies and procedures.

12. Department of Justice, Justice Management Division (N1-60-06-5, 11 items, 11 temporary items). Records relating to the management, operations, and content of the public Web site. Also included are electronic copies of documents created using electronic mail and word processing.

13. Department of Justice, Federal Bureau of Investigation (N1-65-06-2, 35 items, 34 temporary items). Records of the Terrorist Screening Center including inputs, outputs, master files, documentation, and backups associated with electronic information systems used to identify and consolidate information about known or suspected terrorists. Also included are data quality control records, telephone call management records, procedures, project records, and electronic copies of records created using electronic mail and word processing. Proposed for permanent retention are recordkeeping copies of annual reports of encounters with known or suspected terrorists.

14. Department of Justice, Federal Bureau of Investigation (N1-65-06-8, 4 items, 2 temporary items). Inputs and outputs associated with an electronic information system used to document hostage and barricade situations. Proposed for permanent retention are the master files and system documentation.

15. Department of State, Bureau of Intelligence and Research (N1-59-06-6, 12 items, 4 temporary items). Records of the director that are routine in nature and audio-visual records relating to focus group project files and other qualitative research projects of the Office of Research. Also included are electronic copies of records created using electronic mail and word processing. Proposed for permanent retention are recordkeeping copies of substantive subject files of the director, hardcopy and electronic versions of research reports and media reaction studies, research data collection survey project files, contract studies files, and hardcopy records relating to non-survey project files.

16. Department of the Treasury, Internal Revenue Service (N1-58-06-8, 10 items, 10 temporary items). Inputs, outputs, master files, and documentation associated with an electronic information system used to collect and track employee evaluative data and organizational performance goals.

17. Central Intelligence Agency, Agency-wide (N1-263-06-1, 6 items, 2 temporary items). Files relating to intelligence operations including duplicate electronic records pre-dating January 3, 1994, and post-September 1999 paper records converted to images and made part of the agency electronic recordkeeping system. Proposed for permanent retention are all pre-November 1999 recordkeeping paper files, electronic records dating from January 3, 1994, and post-September 1999 paper records not converted to the agency electronic recordkeeping system.

18. Environmental Protection Agency, Office of Chief Financial Officer, (N1-412-06-22, 6 items, 6 temporary items). Records relating to travel including authorizations, travel advance applications, transportation requests, vouchers, reimbursement claims, and other expense receipts and related documents in electronic form, as well as documentation not processed electronically.

Dated: July 13, 2006.
Michael J. Kurtz,
Assistant Archivist for Records Services—Washington, DC.

[FR Doc. E6-11347 Filed 7-17-06; 8:45 am]

BILLING CODE 7515-01-P